SUSQUEHANNA RIVER BASIN COMMISSION

Commission Meeting

AGENCY: Susquehanna River Basin Commission.

ACTION: Notice.

SUMMARY: The Susquehanna River Basin Commission will conduct its regular business meeting on December 4, 2025 in Harrisburg, Pennsylvania. Details concerning the matters to be addressed at the business meeting are contained in the SUPPLEMENTARY INFORMATION section of this notice. Also, the Commission published a document in the Federal Register on October 3, 2025 concerning its public hearing on October 29, in Harrisburg, Pennsylvania.

DATES: The meeting will be held on Thursday, December 4, 2025 at 9:00 a.m.

ADDRESSES: This public meeting will be conducted in person and digitally from the Susquehanna River Basin Commission at 4423 North Front Street, Harrisburg, Pennsylvania.

FOR FURTHER INFORMATION CONTACT: Jason E. Oyler, General Counsel and Secretary to the Commission, telephone: 717-238-0423; fax: 717-238-2436.

SUPPLEMENTARY INFORMATION: The business meeting will include actions or presentations on the following items: (1) adoption Resolution 2025-07 approving the 2026 Fee Schedule; (2) approval of contract and grants; (3) adopt Resolution 2025-08 for the emergency certificate extension for Mott's LLP—Aspers Plant; and (4) 21 actions on 14 regulatory program projects.

This agenda is complete at the time of issuance, but other items may be added, and some stricken without further notice. The listing of an item on the agenda does not necessarily mean that the Commission will take final action on it at this meeting. When the Commission does take final action, notice of these actions will be published in the Federal Register after the meeting. Any actions specific to projects will also be provided in writing directly to project sponsors.

The meeting will be conducted both in person and digitally at the Susquehanna River Basin Commission, 4423 North Front Street, Harrisburg, Pennsylvania. The public is invited to attend the Commission's business meeting. The public may access the Business Meeting remotely via Zoom: https://us02web.zoom.us/j/81256961855?pwd=JjtXeSxCauchJQlToIUFaqxovbT55N.1 Meeting ID 812 5696 1855; Passcode: SRBC4423! or via telephone: 929-436-2866 or 301-715-8592.

A public hearing and written comment period was provided for the actions on the 14 projects and the comment period on those proposed actions is closed. Written comments pertaining to all other items on the agenda at the business meeting may be mailed to the Susquehanna River Basin Commission, 4423 North Front Street, Harrisburg, Pennsylvania 17110-1788, or submitted electronically at the link Business Meeting Comments. Comments are due to the Commission for all items (other than the proposed project actions subject to the public hearing) on the business meeting agenda on or before December 1, 2025. Comments will not be accepted at the business meeting noticed herein.

Authority: Pub. L. 91-575, 84 Stat. 1509 et seq., 18 CFR parts 801, 806, and 808.

Dated: October 29, 2025.
Jason E. Oyler,
General Counsel and Secretary to the Commission.

[FR Doc. 2025-19742 Filed 10-30-25; 8:45 am]

BILLING CODE 7040-01-P